DEPARTMENT OF THE TREASURY

Alcohol and Tobacco Tax and Trade Bureau

27 CFR Part 9

[T.D. TTB-66; Re: Notice No. 67]

RIN 1513-AB19

Establishment of the Lehigh Valley Viticultural Area (2005R-415P)

AGENCY: Alcohol and Tobacco Tax and Trade Bureau, Treasury.

ACTION: Final rule; Treasury decision.

SUMMARY: This Treasury decision establishes the 1,888-square mile Lehigh Valley viticultural area in southeastern Pennsylvania in portions of Lehigh, Northampton, Berks, Schuylkill, Carbon, and Monroe Counties. We designate viticultural areas to allow vintners to better describe the origin of their wines and to allow consumers to better identify wines they may purchase.

DATES: Effective Date: April 10, 2008.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Lehigh Valley Viticultural Area

Background

John Skrip III, chairman of the Lehigh Wine Trail Appellation Committee submitted a petition to TTB proposing the establishment of the 1,888-square mile Lehigh Valley viticultural area in southeastern Pennsylvania. The proposed area is located approximately 45 miles north-northwest of Philadelphia and includes portions of Lehigh, Northampton, Berks, Schuylkill, Carbon, and Monroe Counties. TTB notes that the proposed Lehigh Valley viticultural area does not overlap any other viticultural area. As of 2005, the proposed viticultural area included 9 wineries and 13 vineyards with 220 acres devoted to viticulture, according to the petitioner. The petitioner notes that the distinguishing features of the proposed viticultural area include its rolling hills and a similar agricultural climate throughout.

The evidence submitted with the petition is summarized below.

Name Evidence

The petitioner explains that Lehigh Valley derives its name from the Lehigh River, which flows through the proposed viticultural area and into the Delaware River at Easton, Pennsylvania. The petitioner states that the word “Lehigh” originated with the Delaware Indians in the 1600s, who named the area “Lechauwekink,” meaning an area with river forks. The petitioner notes that through a series of translations of the original Indian name, the name “Lehigh” now identifies the area. The petitioner also notes that the “Lehigh Valley” name applies to a much larger area than the immediate region bordering the Lehigh River and is, in fact, associated with the entire proposed viticultural area.

The petitioner provides evidence for the use of the Lehigh or Lehigh Valley name throughout the proposed viticultural area by businesses, cities, schools, and the National Highway System. For example, Lehigh Street is a major thoroughfare in the city of Allentown, Lehigh University is located on the outskirts of Bethlehem, and the Lehigh Tunnel was constructed on the Northeast Extension of the Pennsylvania Turnpike, just north of the Lehigh County line. Also, two pages of the Lehigh Valley telephone book include nine columns of businesses located within the proposed viticultural area that use “Lehigh Valley” as part of the company name. The petition also includes brochures for inns, golf courses, covered bridges, a chamber orchestra, and a wine trail that use the Lehigh Valley name.

The January 11, 2005, edition of the Bethlehem, Pennsylvania, Express-Times newspaper claims on its front page that it is “The Lehigh Valley's fastest growing newspaper.” An article in the business section of the March 31, 2002, edition of the Allentown Morning Call newspaper discusses the economic development of the Lehigh Valley area. The article notes that six community organizations incorporated “Lehigh Valley” in their names between 1984 and 2002, including the Lehigh Valley Convention and Visitors Bureau, the American Red Cross of the Greater Lehigh Valley, the United Way of Greater Lehigh Valley, and the Lehigh Valley Chamber of Commerce.

In addition, the petitioner provides copies of two regional magazines, “Lehigh Valley Style,” dated March/April 2003, and “Lehigh Valley,” dated July/August 2004. The “Lehigh Valley” magazine includes a full page advertisement for the Lehigh Valley Hospital in Allentown, Pennsylvania. Other petitioner evidence includes a toll receipt for the Lehigh Valley exit of the Pennsylvania Turnpike extension (Interstate 476) and a copy of the home page from the Lehigh Valley International Airport Web site. A U.S. post office and mail distribution center located off Route 22 between Allentown and Bethlehem is referred to as the Lehigh Valley Post Office, according to the petitioner.

Boundary Evidence

The proposed Lehigh Valley viticultural area encompasses the Lehigh River valley from the town of Jim Thorpe to the river's mouth at Easton, as well as the regions to the northeast and southwest of the immediate river valley. In addition to the Lehigh River valley, the proposed viticultural area includes portions of the Schuylkill River valley in the southwest and the Brodhead River valley in the northeast. The proposed area also includes all or portions of the cities of Stroudsburg, Easton, Bethlehem, Allentown, and Reading, Pennsylvania.

Commercial grape growing started in the proposed Lehigh Valley viticultural area in 1974, the petitioner explains, when Vynecrest Winery and Clover Hill Winery started planting grapes. Two years later, Franklin Hill Winery planted grapes near Bangor in Northampton County.

The proposed viticultural area is oriented southwest to northeast in the approximate shape of a rectangle. The petitioner states that the proposed boundary runs for 92 miles along its northern side, 24 miles along its eastern side, 56 miles along its southern side, and 28 miles along its western side.

Along the proposed viticultural area's boundary in the north, a portion of the Appalachian ridge, including Second Mountain and Wildcat Mountain in Schuylkill County, Mauch Chunk Ridge, Bear Mountain, and Call Mountain in Carbon County, and a series of lower hills in Monroe County, separates the proposed area from the cooler mountains of northeastern Pennsylvania.

To the east, between Stroudsburg and Easton, the Delaware River separates Pennsylvania from New Jersey and marks the eastern limit of the proposed Lehigh Valley viticultural area. The petitioner notes that the region of northwestern New Jersey bordering the proposed area is not considered part of the Lehigh Valley region. To the southeast, another long Appalachian mountain ridge, South Mountain, separates the proposed viticultural area from the immediate Philadelphia region.

To the west, the southwestern Berks County and Schuylkill County lines separate the Lehigh Valley region from the counties of south-central Pennsylvania, which is considered a separate geographical region of the State, according to the petitioner.

Distinguishing Features

The distinguishing features of the proposed Lehigh Valley viticultural area, according to the petitioner, include its rolling hills and a similar agricultural climate throughout. These features contrast with the regions to the north and south of the proposed viticultural area, according to the petitioner. To document these differences, the petitioner uses data collected from 1961 to 1996 by the United States Department of Agriculture and its Natural Resources Conservation Service (NRCS). In addition, the petitioner submitted maps of Pennsylvania with information on soil moisture, soil temperature, frost-free periods, and agro-climatic regions.

Climate

The agricultural-climatic features of the proposed Lehigh Valley viticultural area include heat accumulation measurements of 2,601 to 3,000 annual degree days and an annual moisture surplus of 351 to 450 millimeters of water, as shown on the Agro-Climate Regions of Pennsylvania map submitted with the petition. (As a measurement of heat accumulation during the growing season, one degree day accumulates for each degree Fahrenheit that a day's mean temperature is above 50 degrees, which is the minimum temperature required for grapevine growth. See “General Viticulture,” by Albert J. Winkler, University of California Press, 1974.)

The USGS and the NRCS integrate degree-days and annual moisture surplus data to identify regions of relatively homogeneous heat and moisture characteristics related to crop production. This information is shown on the Agro-Climate Regions of Pennsylvania map submitted with the petition and is summarized in the table below.

Lehigh Valley Area Degree Day and Water Balances
| North of Lehigh Valley region | Lehigh Valley area | South of Lehigh Valley region
Growing season degree-days | 1,801-2,600 | 2,601-3,000 | 3,001-3,400
Annual water balance (surplus) | 451-550 | 351-450 | 351-450

The petitioner presents annual temperature data collected from 1975 to 2004 at three airports—one to the north of the proposed viticultural area, one to the south of the proposed area, and one within the proposed area. The data, as summarized in the table below, shows differences in average annual precipitation and temperatures, with a warming trend from north to south.

Lehigh Valley Area Climatic Temperature Data Averages 1975-2004
Fahrenheit temperatures | Wilkes-Barre Scranton Airport (25 miles north of Lehigh Valley) | Lehigh Valley Airport (within the proposed viticultural area) | Philadelphia International Airport (45 miles south of Lehigh Valley)
Average High | 58.8° | 61.5° | 64.4°
Average Mean | 49.7° | 51.7° | 55.4°
Average Low | 40.6° | 42° | 46.6°
Maximum High | 94.4° | 96.5° | 97.3°
Minimum Low | −4.2° | 0.7° | 5.2°
Frequency of days below 5° | 14 | 7 | 3
Average rain in inches | 37.5″ | 43.6″ | 41.6″

The proposed Lehigh Valley viticultural area's growing season ranges from 161 to 180 consecutive frost-free days, with the proposed area's southern portion having fewer days with frost than its northern portion, according to the Frost-Free Period of Pennsylvania Landscapes map submitted with the petition. A frost-free period, based on 32 degrees Fahrenheit or above, the petitioner explains, represents the consecutive days from the final killing frost in the spring to the first killing frost in the fall. This 161- to 180-day timeframe defines the length of the regional growing season for most agronomic crops.

The region north of the proposed viticultural area, the petitioner states, is cooler during the growing season, with 1,801 to 2,600 degree days of heat accumulation. The region to the north also is wetter, with an annual surplus water balance of 451 to 550 millimeters of water. The higher elevations to the north of the Lehigh Valley region create a climate with cooler temperatures and more soil moisture retention. As evidence, the petitioner submitted the Agro-Climate Regions of Pennsylvania map, which shows a distinctively cooler and wetter climate north of the proposed Lehigh Valley viticultural area. Also, the meteorological data collected during the years 1975 to 2004 from the Wilkes-Barre Scranton International Airport, located 25 miles north of the proposed viticultural area, shows consistently lower temperatures than are found in the proposed viticultural area, with twice as many days dipping below 5 degrees Fahrenheit annually.

The petitioner describes the area to the south of the proposed viticultural area as marginally, yet consistently, warmer. Meteorological information included in the petition from the Philadelphia International Airport, 45 miles south of the Lehigh Valley, confirms that temperatures to the south of the proposed area are warmer by an average of 4 degrees Fahrenheit. The petitioner also explains that to the south of the proposed area the warmer temperatures, combined with different soils, create a longer grape-growing season and mature grapes with lower acidities and different flavors than those of the proposed Lehigh Valley viticultural area.

Areas to the east and west of the proposed Lehigh Valley viticultural area are, for geopolitical and social reasons, considered to be outside of the Lehigh Valley. Across the Delaware River to the east of the proposed viticultural area is the State of New Jersey. The petitioner states that the residents of this northwestern New Jersey region do not consider themselves to be a part of the Lehigh Valley region of Pennsylvania. The region to the west of the proposed viticultural area also is not considered to be part of the Lehigh Valley, according to the petitioner. The counties to the west of the proposed area considered by most to be part of south-central Pennsylvania, which is often called “Pennsylvania Dutch Country.”

Topography

The topography of the proposed Lehigh Valley viticultural area largely consists of rolling hills with elevations generally between 500 feet and 1,000 feet, according to the petitioner and the USGS maps provided. Creeks and several rivers flow through the region, while lakes dot the landscape, as shown on the USGS maps of the region. Also, a small portion of the proposed northeastern boundary area, along the foothills of the Blue Mountain range, rises to the 1,600-foot contour line. The Appalachian National Scenic Trail meanders through the proposed area's higher elevations, as shown on the USGS maps.

Beyond the northern boundary of the proposed viticultural area, the terrain transitions from the lower, rolling hills of the Lehigh Valley to higher foothills and mountains with elevations ranging from 1,000 feet to 1,900 feet. While the region southeast of the proposed viticultural area begins on the heights of South Mountain, the region quickly falls to the lower and flatter elevations of the Delaware River valley.

Soils

The petitioner states that the soils within the proposed Lehigh Valley viticultural area are mainly based on shale, sandstone, and siltstone. A 1972 Soil Conservation Service publication, General Soil Map—Pennsylvania, verifies that the area contains shale, sandstone, and siltstone. Soils to the south of the proposed area, according to the petitioner, are based on schist, gneiss, and porcelanite, rather than shale, limestone, and sandstone.

According to data submitted by the petitioner, a lack of soil moisture during the growing season puts the proposed Lehigh Valley viticultural area in the Typic Udic moisture regime (less than 90 days of drying), as determined by USGS and NRCS data and shown on the Soil Moistures Regimes of Pennsylvania Landscapes map. The petitioner explains that the region typically has a June through August dry season when the grape vines rely on stored moisture rather than rain.

The estimated annual mean soil temperature of the proposed viticultural area is Typic Mesic, ranging from 10.5 degrees Centigrade, or 50.9 degrees Fahrenheit, to 12.0 degrees Centigrade, or 54 degrees Fahrenheit. This information is based on temperatures at 20 inches below the soil surface and shown on the Soil Moistures Regimes of Pennsylvania Landscapes map.

Geology

The geology of the proposed Lehigh Valley viticultural area, as depicted on the Geologic Map of Pennsylvania, Commonwealth of Pennsylvania, Conservation and Natural Resources, Bureau of Topographic and Geologic Survey, revised in 2000, includes Ordovician features in the south and Permian features in the north. The Ordovician geology, predominantly consisting of shale, limestone, dolomite, and sandstone, dates back 430 million to 500 million years. The Permian geology, dating back 250 million to 290 million years, consists of coal, in addition to the sandstone, shale, and limestone that is similar to that found in the Ordovician geology to the south of the proposed viticultural area.

Notice of Proposed Rulemaking and Comments Received

TTB published Notice No. 67 regarding the proposed Lehigh Valley viticultural area in the Federal Register (71 FR 65437) on November 8, 2006. We received no comments in response to that notice.

TTB Finding

After careful review of the petition, TTB finds that the evidence submitted supports the establishment of the proposed viticultural area. Therefore, under the authority of the Federal Alcohol Administration Act and part 4 of our regulations, we establish the Lehigh Valley American viticultural area in southeastern Pennsylvania in portions of Lehigh, Northampton, Berks, Schuylkill, Carbon, and Monroe Counties, effective 30 days from the publication date of this document.

Boundary Description

See the narrative boundary description of the viticultural area in the regulatory text published at the end of this document.

Maps

The maps for determining the boundary of the viticultural area are listed below in the regulatory text.

Impact on Current Wine Labels

Part 4 of the TTB regulations prohibits any label reference on a wine that indicates or implies an origin other than the wine's true place of origin. With the establishment of this viticultural area and its inclusion in part 9 of the TTB regulations, its name, “Lehigh Valley,” is recognized under 27 CFR 4.39(i)(3) as a name of viticultural significance. In addition, the name “Lehigh” standing alone will be considered a term of viticultural significance because consumers and vintners could reasonably attribute the quality, reputation, or other characteristic of wine made from grapes grown in the Lehigh Valley viticultural area to the name Lehigh itself. The text of the new regulation clarifies these points. Consequently, wine bottlers using “Lehigh Valley” or “Lehigh” in a brand name, including a trademark, or in another label reference as to the origin of the wine, must ensure that the product is eligible to use the viticultural area's full name or “Lehigh” as an appellation of origin.

For a wine to be labeled with a viticultural area name or with a brand name that includes a viticultural area name or other term specified as having viticultural significance in part 9 of the TTB regulations, at least 85 percent of the wine must be derived from grapes grown within the area represented by that name or other term, and the wine must meet the other conditions listed in 27 CFR 4.25(e)(3). If the wine is not eligible to use the viticultural area name or other term of viticultural significance as an appellation of origin and that name or other term appears in the brand name, then the label is not in compliance and the bottler must change the brand name and obtain approval of a new label. Similarly, if the viticultural area name or other term of viticultural significance appears in another reference on the label in a misleading manner, the bottler would have to obtain approval of a new label.

Different rules apply if a wine has a brand name containing a viticultural area name or other term of viticultural significance that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866, 58 FR 51735. Therefore, it requires no regulatory assessment.

Drafting Information

N. A. Sutton of the Regulations and Rulings Division drafted this notice.

List of Subjects in 27 CFR Part 9

Wine.

The Regulatory Amendment

For the reasons discussed in the preamble, we amend 27 CFR, chapter I, part 9, as follows:

PART 9—AMERICAN VITICULTURAL AREAS

1. The authority citation for part 9 continues to read as follows:

Authority: 27 U.S.C. 205.

Subpart C—Approved American Viticultural Areas

2. Amend subpart C by adding § 9.210 to read as follows:

§ 9.210 Lehigh Valley.

(a) Name. The name of the viticultural area described in this section is “Lehigh Valley”. For purposes of part 4 of this chapter, “Lehigh Valley” and “Lehigh” are terms of viticultural significance.

(b) Approved maps. The seven United Stages Geological Survey 1:50,000 scale topographic maps used to determine the boundary of the Lehigh Valley viticultural area are titled:

(1) Berks County, Pennsylvania, 1978;

(2) Schuylkill County (West Half), Pennsylvania, 1979;

(3) Schuylkill County (East Half), Pennsylvania, 1979;

(4) Carbon County, Pennsylvania, 1991;

(5) Monroe County, Pennsylvania, 1980;

(6) Northampton County, Pennsylvania, 1981; and

(7) Lehigh County, Pennsylvania, 1987.

(c) Boundary. The Lehigh Valley viticultural area is located in portions of Lehigh, Northampton, Berks, Schuylkill, Carbon, and Monroe Counties, Pennsylvania. The boundary of the proposed Lehigh Valley viticultural area is as described below:

(1) The beginning point is on the Berks County map at the intersection of the Berks-Lancaster County line and the single-track Conrail rail line located near Cacoosing Creek in South Heidelberg Township;

(2) From the beginning point, proceed northwest along the Berks County line and, crossing onto the Schuylkill County (West Half) map, continue northwest along the Schuylkill-Lebanon County line to the county line's intersection with the northern boundary of Pine Grove township; then

(3) Proceed northeast along the northern boundary of Pine Grove, Washington, and Wayne Townships and, crossing onto the Schuylkill County (East Half) map, continue along the northern boundary of Wayne Township to the northeast corner of that township, then

(4) Proceed east-northeasterly in a straight line to the confluence of Beaver Creek and Cold Run at the northeast corner of State Game Lands No. 222 in Walker township; then

(5) Proceed north-northeasterly in a straight line to the 1,402-foot elevation point on Wildcat Mountain in Walker township; then

(6) Proceed easterly in a straight line, crossing onto the Carbon County map, and continue to Bench Mark (BM) 1032 located on Highway 902, south of the village of Bloomingdale; then

(7) Proceed east-northeasterly in a straight line to BM 555 located immediately east of the Lehigh River in the city of Jim Thorpe; then

(8) Proceed east-northeasterly in a straight line to the northern most point of Lehighton Reservoir; then

(9) Proceed east-northeasterly in a straight line to the western end of the dam at the Penn Forest Reservoir; then

(10) Proceed easterly in a straight line and, crossing onto the Monroe County map, continue to the 847-foot elevation point located at the intersection of Highway 534 and an unnamed road locally know as Dotters Corner Road in Polk township; then

(11) Proceed east-northeasterly in a straight line to the intersection of Highway 115 and an unnamed secondary road locally known as Astolat Road immediately north of the village of Effort; then

(12) Proceed east-northeasterly in a straight line to St. Johns Cemetery, located along Appenzell Creek northwest of the village of Neola; then

(13) Proceed straight northeast to the intersection of Interstate 80 and an unnamed road locally known as Hamilton Turnpike at the town of Bartonsville; then

(14) Proceed east-southeast along Interstate 80 through Stroudsburg to the west bank of the Delaware River; then

(15) Proceed south (downstream) along the west bank of the Delaware River, and, crossing onto the Northampton County map, continue south along the west bank of the Delaware River to the mouth of Lehigh River at Easton; then

(16) Proceed southwesterly (upstream) along the south bank of the Lehigh River, and crossing onto the Lehigh County map, continue along the south bank of the Lehigh River to the mouth of Jordan Creek in Allentown; then

(17) Proceed westerly (upstream) along Jordan Creek to the first railroad bridge over the creek, and then, following the Conrail rail line on that bridge, proceed southerly along the Conrail rail line (paralleling Trout Creek at first) through Emmaus, Macungie, and Alburtis, and continue along the rail line to the Lehigh-Berks County line; then

(18) Crossing onto the Berks County map, continue southerly along the Conrail rail line through Mertztown, Topton, Lyons, Fleetwood, Blandon, and Muhlenburg to the Conrail rail bridge across the Schuylkill River in Reading; then

(19) Following the Conrail rail line on the Schuylkill River bridge, proceed southerly along the rail line through Wyomissing to the rail line's junction with a single-track Conrail rail line in Sinking Springs; then

(20) From the Conrail rail line junction in Sinking Springs, follow the single track Conrail rail line through Montello, Fritztown, and Vinemont, and return to the beginning point.

Signed: April 4, 2007.
John J. Manfreda,
Administrator.
Approved: November 16, 2007.
Timothy E. Skud,
Deputy Assistant Secretary, (Tax, Trade, and Tariff Policy).

Editorial Note: This document was received at the Office of the Federal Register on March 6, 2008.

[FR Doc. E8-4786 Filed 3-10-08; 8:45 am]

BILLING CODE 4810-31-P